DEPARTMENT OF AGRICULTURE

Animal and Plant Health Inspection Service

[Docket No. APHIS-2011-0039]

Notice of Availability of a Pest Risk Analysis for the Importation of Fresh Apricot, Sweet Cherry, and Plumcot Fruit From South Africa Into the Continental United States

AGENCY: Animal and Plant Health Inspection Service, USDA.

ACTION: Notice.

SUMMARY: We are advising the public that we have prepared a pest risk analysis that evaluates the risks associated with the importation into the continental United States of fresh apricot, sweet cherry, and plumcot fruit from South Africa. Based on our analysis, we have concluded that the application of one or more designated phytosanitary measures will be sufficient to mitigate the risks of introducing or disseminating plant pests via the importation of those commodities from South Africa. We are making the pest risk analysis available to the public for review and comment. Based on the results of our analysis, we also determined that it is necessary to revise a treatment schedule in the Plant Protection and Quarantine Treatment Manual.

DATES: We will consider all comments that we receive on or before August 1, 2011.

ADDRESSES: You may submit comments by either of the following methods:

• Federal eRulemaking Portal: Go to http://www.regulations.gov/fdmspublic/component/main?main=DocketDetail&d=APHIS-2011-0039 to submit or view comments and to view supporting and related materials available electronically.

• Postal Mail/Commercial Delivery: Please send one copy of your comment to Docket No. APHIS-2011-0039, Regulatory Analysis and Development, PPD, APHIS, Station 3A-03.8, 4700 River Road Unit 118, Riverdale, MD 20737-1238. Please state that your comment refers to Docket No. APHIS-2011-0039.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Dorothy C. Wayson, Senior Regulatory Coordination Specialist, Regulations, Permits, and Manuals, PPQ, APHIS, 4700 River Road, Unit 141, Riverdale, MD 20737; (301) 734-0772.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section.

APHIS received a request from the Government of South Africa to allow the importation of fresh apricot (Prunus armeniaca L.), sweet cherry (Prunus avium (L.) L., and plumcot (Prunus domestica × Prunus armeniaca) fruit from South Africa into the continental United States. APHIS completed a risk assessment to identify pests of quarantine significance that could follow the pathway of importation of those stone fruits. Based on that risk assessment, APHIS completed a risk management document identifying phytosanitary measures that could be applied to mitigate the possible pest risks. We have concluded that fresh apricot, sweet cherry, and plumcot fruit can be imported safely into the continental United States from South Africa using one or more of the five designated phytosanitary measures listed in § 319.56-4(b). The specific measures that we would require for apricot, sweet cherry, and plumcot fruit imported from South Africa are as follows:

• The fruit must be imported as a commercial consignment, as defined in § 319.56-2.

• Each consignment of fruit must be accompanied by a phytosanitary certificate issued by the national plant protection organization of South Africa. For apricots and plumcots only, the phytosanitary certificate must include an additional declaration stating that the fruit was inspected and found free of cinch bug (Macchiademus diplopterus).

• Apricots and plumcots must be cold treated for fruit flies (Ceratitis spp.) and false codling moth (Thaumatotibia leucotreta) in accordance with 7 CFR part 305.

• Sweet cherries must be cold treated for the Mediterranean fruit fly (Ceratitis capitata) in accordance with 7 CFR part 305.

• Each consignment of fruit is subject to inspection upon arrival in the United States.

Therefore, in accordance with § 319.56-4(c), we are announcing the availability of our pest risk analysis for public review and comment.

Based on the findings detailed in our risk management document, we are also updating the Plant Protection and Quarantine (PPQ) Treatment Manual.¹ As noted above, apricots, sweet cherries, and plumcots imported into the continental United States from South Africa would be required to undergo cold treatment in accordance with 7 CFR part 305. In § 305.2, paragraph (b) states that approved treatment schedules are set out in the PPQ Treatment Manual. Section 305.3 sets out a process for adding, revising, or removing treatment schedules in the PPQ Treatment Manual. In that section, paragraph (a) sets out the process for adding, revising, or removing treatment schedules when there is no immediate need to make a change. The circumstances in which an immediate need exists are described in § 305.3(b)(1).

¹ The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

In accordance with § 305.3(a)(1), we are providing notice that we have determined that it is necessary to revise treatment schedule T107-e, which provides a cold treatment schedule intended to prevent the spread of false codling moth and Natal fruit fly (Ceratitis rosa) via the interstate movement or importation of apricot, grape, nectarine, peach, and plum fruit. Our risk management document states that apricots and plumcots must be treated for false codling moth and Natal fruit fly, as well as the Mediterranean fruit fly and the Bezzi fruit fly (Ceratitis quinaria), using treatment schedule T107-e. The risk management document further states that although T107-e is not specifically approved for the Mediterranean or the Bezzi fruit fly, APHIS considers it to be an adequate treatment for both because it is more stringent than any other cold treatment approved for fruit flies. Moreover, although the hybrid plumcot is not listed among commodities that this treatment is approved for, its parent fruits, plum and apricot, are. APHIS has concluded, therefore, that plumcots can be effectively treated in accordance with T107-e to protect against the spread of false codling moth and of other species of fruit fly in addition to Natal fruit fly. Therefore, we have determined that treatment schedule T107-e can include plumcots among the commodities to which the treatment may be applied and the Mediterranean and the Bezzi fruit fly among the pests it is intended to eliminate.

The pest risk analysis may be viewed on the Regulations.gov Web site or in our reading room (see ADDRESSES above for a link to Regulations.gov and information on the location and hours of the reading room). You may request paper copies of the pest risk analysis by calling or writing to the person listed under FOR FURTHER INFORMATION CONTACT. Please refer to the subject of the pest risk analysis you wish to review when requesting copies.

After reviewing any comments we receive, we will announce our decision regarding the import status of fresh apricot, sweet cherry, and plumcot fruit from South Africa and the change to the PPQ Treatment Manual. If the overall conclusions of the analysis and the Administrator's determination of risk remain unchanged following our consideration of the comments, then we will authorize the importation of fresh apricot, sweet cherry, and plumcot fruit from South Africa into the continental United States, subject to the requirements specified in the risk management document. We will also issue a new version of the PPQ Treatment Manual incorporating the changes to treatment schedule T107-e discussed above.

Authority: 7 U.S.C. 450, 7701-7772, and 7781-7786; 21 U.S.C. 136 and 136a; 7 CFR 2.22, 2.80, and 371.3.

Done in Washington, DC, this 25th day of May 2011.
Kevin Shea,
Acting Administrator, Animal and Plant Health Inspection Service.

[FR Doc. 2011-13503 Filed 5-31-11; 8:45 am]

BILLING CODE 3410-34-P